GENERAL SERVICES ADMINISTRATION

Public Buildings Service, Notice of Availability of the Record of Decision; Proposed Federal courthouse and office building, Eugene/Springfield metro area, Lane County, Oregon

Pursuant to section 102(2)(C) of the National Environmental Policy Act (NEPA) of 1969, as amended, as implemented by the Council on Environmental Quality (40 CFR Parts 1500-1508), the General Services Administration (GSA) is making available to other government and interested private parties, the Record of Decision (ROD) for the proposed construction of a 265,290 gross square feet Courthouse and office building including 80 secured parking spaces that will be located in the urban center of Eugene, Lane County, Oregon. The location currently known as the Chiquita site which was designated alternative 2, option A in the Final Environmental Impact Statement, is the preferred alternative and has been selected as the location of the new courthouse.

The ROD is on file and a copy may be obtained from John L. Meerscheidt, Herrera Environmental Consultants, 2200 Sixth Ave, Suite 601, Seattle, Washington, 98121 (206.441.9080) For further information, contact Michael D. Levine—U.S. General Services Administration, Region 10, (10PCP), 400 15th Street, SW., Auburn, Washington, 98001 (206) 931-7263. A copy of the ROD can be viewed at the following website: w4.gsa.gov/r10/EugeneCourthouse/

Dated: March 8, 2001.
Robin G. Graf,
Acting Regional Administrator (10A).

[FR Doc. 01-7583 Filed 3-27-01; 8:45 am]

BILLING CODE 6820-61-M